DEPARTMENT OF LABOR

Employment and Training Administration

[TA-W-62,538]

ITW Foils Including On-Site Leased Workers From Central Michigan Staffing, Mt. Pleasant, MI; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on January 14, 2008, applicable to workers of ITW Foils, Mt. Pleasant, Michigan. The notice was published in the Federal Register on February 1, 2008 (73 FR 6212).

At the request of the State agency, the Department reviewed the certification for workers of the subject firm. The workers are engaged in the production of hot stamp foil.

New information shows that leased workers of Central Michigan Staffing were employed on-site at the Mt. Pleasant, Michigan location of ITW Foils. The Department has determined that these workers were sufficiently under the control of the subject firm to be considered leased workers.

Based on these findings, the Department is amending this certification to include leased workers of Central Michigan Staffing working on-site at the Mt. Pleasant, Michigan location of the subject firm.

The intent of the Department's certification is to include all workers employed at ITW Foils, Mt. Pleasant, Michigan who were adversely-impacted by a shift in production of hot stamp foils to Canada.

The amended notice applicable to TA-W-62,538 is hereby issued as follows:

All workers of ITW Foils, including on-site leased workers from Central Michigan Staffing, Mt. Pleasant, Michigan, who became totally or partially separated from employment on or after December 4, 2006, through January 14, 2010, are eligible to apply for adjustment assistance under Section 223 of the Trade Act of 1974, and are also eligible to apply for alternative trade adjustment assistance under Section 246 of the Trade Act of 1974.

Signed at Washington, DC this 27th day of February 2008.
Elliott S. Kushner,
Certifying Officer, Division of Trade Adjustment Assistance.

[FR Doc. E8-4442 Filed 3-6-08; 8:45 am]

BILLING CODE 4510-FN-P